DEPARTMENT OF HOUSING AND URBAN DEVELOPMENT

[Docket No. FR-6113-N-01]

Announcement of Funding Awards

AGENCY: Office of Strategic Planning and Management, HUD.

ACTION: Notice.

SUMMARY: In accordance with the Department of Housing and Urban Development Reform Act of 1989, this announcement notifies the public of funding decisions made by the Department in competitions for funding under the Notices of Funding Availability (NOFAs) for the following programs: FY2017 Rural Capacity Building for Community Development and Affordable Housing Grants (RCB); FY2017 Fair Housing Initiatives Program (FHIP); and FY2017 The Research and Evaluation, Demonstrations and Data Analysis and Utilization Program.

FOR FURTHER INFORMATION CONTACT: Office of Strategic Planning and Management, Grants Management and Oversight Division at AskGMO@hud.gov or the contact person listed in each appendix.

SUPPLEMENTARY INFORMATION: The FY17 Rural Capacity Building for Community Development and Affordable Housing Grants (RCB) competition was announced in the NOFA published on grants.gov on September 28, 2017, FR-6100-N-08, and which closed on December 06, 2017. Applications were rated and selected for funding based on selection criteria contained in the NOFA. $5,000,000 was awarded to 4 recipients with expertise in rural housing and community development. The RCB program will enhance the capacity and ability of rural housing development organizations, Community Development Corporations, Community Housing Development Organizations, local governments, and Indian tribes to carry out community development and affordable housing activities that benefit low- and moderate-income families and persons in rural areas.

The FY2017 Fair Housing Initiatives Program competition was announced in the three NOFAs published on grants.gov on August 02, 2017, FR-6100-N-21A, FR-6100-N-21B and FR-6100-N-21C and all of which closed on October 06, 2017. Applications were rated and selected for funding based on selection criteria contained in the NOFAs. $37,763,767 was awarded to 157 recipients to fund fair housing organizations and other nonprofits that assist individuals who believe that they have been victims of housing discrimination. FHIPs provide funds to eligible organizations through competitive grants under three initiatives: To carry out enforcement activities, to prevent or eliminate discriminatory housing practices, and to inform individuals of their rights and responsibilities under the Fair Housing Act. The Initiatives are: The Fair Housing Organization Initiative, Private Enforcement Initiative, and the Education and Outreach Initiative.

The FY2017 The Research and Evaluation, Demonstrations and Data Analysis and Utilization Program competition was announced in the NOFA published on grants.gov on August 16, 2017, FR-6100-N-29, and which closed on October 15, 2017. Applications were rated and selected for funding based on selection criteria contained in the NOFA. $890,661 was awarded to 3 recipients to focus on (1) Child Trajectories in HUD-Assisted Housing where proposed projects should focus on secondary data analysis using administrative data, survey data, or linked data products (government or other sources) to assess long-term child outcomes among children who reside or resided in HUD-assisted housing; and (2) The Social and Economic Impacts of the Community Development Block Grant Program to develop a better understanding of the effects of specific Community Development Block Grant (CDBG) eligible activities. Through this project, HUD seeks to identify objective, quantifiable outcome measures that can be attributed to specific CDBG activities to inform policymakers at the federal, state, and local levels.

In accordance with section 102(a)(4)(C) of the Department of Housing and Urban Development Reform Act of 1989 (103 Stat. 1987, 42 U.S.C. 3545(a)(4)(C)), the Department is publishing the awardees and the amounts of the awards in Appendices A-C to this document.

Dated: June 13, 2018.
Henry Hensley,
Director, Office of Strategic Planning and Management.

FR-6100-FA-08

FR-6100-FA-21A

FR-6100-FA-21B

FR-6100-FA-21C

FR-6100-FA-29

Appendix A

FY17 Rural Capacity Building for Community Development and Affordable Housing Grants (RCB)

Contact: Diane Schmutzler, 202-402-4385.

Organization | Street address | City | State | Zip code | Award amount
Minnesota Housing Partnership (MHP) | 2446 University Avenue West | Saint Paul | MN | 55114-1740 | $2,000,000
Housing Assistance Council (HAC) | 1025 Vermont Ave NW | Washington | DC | 20005-3516 | 1,000,000
Rural Community Assistance Corp (RCAC) | 3120 Freeboard Drive | Sacramento | CA | 95691-5010 | 1,000,000
Rebuilding Together, Inc. (RTI) | 999 North Capitol Street NE, Suite 701 | Washington | DC | 20002-4684 | 1,000,000

Appendix B

FY2017 Fair Housing Initiatives Program

Contact: Myron Newry, 202-402-7095.

Recipient | Address | City | State | Zip | Amount
Alaska Legal Services Corporation | 1016 W 6th Avenue, Suite 200 | Anchorage | AK | 99501 | $125,000.00
Alaska Legal Services Corporation | 1016 W 6th Avenue, Suite 200 | Anchorage | AK | 99501 | 300,000.00
Central Alabama Fair Housing Center | 2867 Zelda Road | Montgomery | AL | 36106 | 124,998.00
Central Alabama Fair Housing Center | 2867 Zelda Road | Montgomery | AL | 36106 | 300,000.00
Fair Housing Center of Northern Alabama | 1820 7th Avenue North, Suite 110 | Birmingham | AL | 35203 | 202,816.00
Mobile Fair Housing Center, Inc | P.O. Box 161202 | Mobile | AL | 36616 | 300,000.00
Legal Aid of Arkansas, Inc | 714 South Main | Jonesboro | AR | 72401 | 125,000.00
Southwest Fair Housing Council | 2030 E Broadway Blvd., Suite 101 | Tucson | AZ | 85719 | 13,972.00
Southwest Fair Housing Council | 2030 E Broadway Blvd., Suite 101 | Tucson | AZ | 85719 | 300,000.00
Bay Area Legal Aid | 1735 Telegraph Avenue | Oakland | CA | 94612 | 300,000.00
California Rural Legal Assistance, Inc | 1430 Franklin Street, Suite 103 | Oakland | CA | 94612 | 125,000.00
California Rural Legal Assistance, Inc | 1430 Franklin Street, Suite 103 | Oakland | CA | 94105 | 300,000.00
Fair Housing Advocates of Northern California | 1314 Lincoln Avenue | San Rafael | CA | 94901 | 124,999.00
Fair Housing Advocates of Northern California (formerly Fair Housing of Marin) | 1314 Lincoln Avenue | San Rafael | CA | 94901 | 300,000.00
Fair Housing Council of Central California | 333 W Shaw Avenue Suite 14 | Fresno | CA | 93704 | 300,000.00
Fair Housing Council of Riverside County, Inc | 3933 Mission Inn Avenue | Riverside | CA | 92501 | 125,000.00
Fair Housing Council of Riverside County, Inc | 3933 Mission Inn Avenue | Riverside | CA | 92501 | 300,000.00
Greater Bakersfield Legal Assistance, Inc. (GBLA) | 615 California Avenue | Bakersfield | CA | 93304 | 300,000.00
Greater Napa Valley Fair Housing Center | 1804 Soscol Avenue, Suite 203 | Napa | CA | 94559 | 125,000.00
Greater Napa Valley Fair Housing Center | 1804 Soscol Avenue, Suite 203 | Napa | CA | 94559 | 300,000.00
Inland Mediation Board | 1500 South Haven Avenue, Suite 100 | Ontario | CA | 91761 | 125,000.00
Inland Mediation Board | 1500 South Haven Avenue, Suite 100 | Ontario | CA | 91761 | 300,000.00
Legal Aid Society of San Diego, Inc | 110 S Euclid Avenue | San Diego | CA | 92114 | 300,000.00
Mental Health Advocacy Services, Inc | 3255 Wilshire Blvd., Suite 902 | Los Angeles | CA | 90010 | 125,000.00
Orange County Fair Housing Council, Inc | 1516 Brookhollow Drive | Santa Ana | CA | 92705 | 300,000.00
Orange County Fair Housing Council, Incorporated | 1516 Brookhollow Drive | Santa Ana | CA | 92705 | 125,000.00
Project Sentinel Inc | 1490 El Camino Real | Santa Clara | CA | 95050 | 125,000.00
Project Sentinel Inc | 1490 El Camino Real | Santa Clara | CA | 95050 | 300,000.00
Southern California Housing Rights Center | 3255 Wilshire Blvd., Suite 1150 | Los Angeles | CA | 90010 | 300,000.00
Denver Metro Fair Housing Center | 3280 Downing Street | Denver | CO | 80205 | 125,000.00
Denver Metro Fair Housing Center | 3401 Quebec Street | Denver | CO | 80207 | 300,000.00
Connecticut Fair Housing Center, Inc | 221 Main Street | Hartford | CT | 06106 | 300,000.00
Connecticut Fair Housing Center, Inc | 221 Main Street | Hartford | CT | 06106 | 125,000.00
Equal Rights Center | 11 Dupont Circle NW | Washington | DC | 20036 | 125,000.00
Equal Rights Center, Inc | 11 Dupont Circle NW | Washington | DC | 20036 | 300,000.00
Housing Counseling Services | 2410 17th Street NW | Washington | DC | 20009 | 125,000.00
National Community Reinvestment Coalition | 740 15th St. NW | Washington | DC | 20005 | 300,000.00
National Fair Housing Alliance | 1101 Vermont Ave. NW, Suite 710 | Washington | DC | 20005 | 999,962.00
National Fair Housing Alliance | 1101 Vermont Ave. NW, Suite 710 | Washington | DC | 20005 | 300,000.00
Community Legal Aid Society, Inc | 100 W 10th Street Suite 801 | Wilmington | DE | 19801 | 300,000.00
Community Legal Services of Mid-Florida, Inc | 128 Orange Avenue | Daytona Beach | FL | 32114 | 125,000.00
Community Legal Services of Mid-Florida, Inc | 128 Orange Avenue | Daytona Beach | FL | 32114 | 300,000.00
Fair Housing Center of the Greater Palm Beaches, Inc | 1300 W Lantana Road, Suite 200 | Lantana | FL | 33462 | 300,000.00
Fair Housing Continuum, Inc | 571 Haverty Ct., Suite W | Rockledge | FL | 32955 | 300,000.00
Housing Opportunities Project for Excellence, Inc | 11501 NW 2nd Avenue | Miami | FL | 33168 | 125,000.00
Housing Opportunities Project for Excellence, Inc | 11501 NW 2nd Avenue | Miami | FL | 33168 | 300,000.00
Jacksonville Area Legal Aid, Inc | 126 W Adams St | Jacksonville | FL | 32202 | 299,980.00
Legal Aid Society of Palm Beach County, Inc | 423 Fern Street Suite 200 | West Palm Beach | FL | 33401 | 300,000.00
Mid-Florida Housing Partnership | 1834 Mason Avenue | Daytona Beach | FL | 32117 | 125,000.00
JCVision and Associates, Inc | P.O. Box 1972 | Hinesville | GA | 31310 | 250,000.00
Metro Fair Housing Services, Inc | 215 Lakewood Way SW, Suite 106 | Atlanta | GA | 30315 | 300,000.00
Legal Aid Society of Hawaii | 924 Bethel Street | Honolulu | HI | 96813 | 300,000.00
Idaho Legal Aid Services, Inc | 1447 S Tyrell Lane | Boise | ID | 83706 | 97,056.00
Intermountain Fair Housing Council, Inc | 5460 W Franklin Rd., Suite M | Boise | ID | 83705 | 300,000.00
Access Living of Metropolitan Chicago | 115 West Chicago Avenue | Chicago | IL | 60654 | 300,000.00
Chicago Lawyers' Committee for Civil Rights Under Law | 100 N LaSalle Street | Chicago | IL | 60602 | 300,000.00
H.O.P.E. Inc d/b/a HOPE Fair Housing Center | 202 W Willow Ave, Suite 203 | Wheaton | IL | 60187 | 125,000.00
H.O.P.E. Inc d/b/a HOPE Fair Housing Center | 202 W Willow Ave, Suite 203 | Wheaton | IL | 60187 | 300,000.00
John Marshall Law School | 315 S Plymouth Court | Chicago | IL | 60604 | 125,000.00
John Marshall Law School | 315 S Plymouth Court | Chicago | IL | 60604 | 300,000.00
Oak Park Regional Housing Center | 1041 South Boulevard | Oak Park | IL | 60302 | 125,000.00
Open Communities | 614 Lincoln Ave | Winnetka | IL | 60093 | 295,510.00
Prairie State Legal Services, Inc | 303 N Main Street, Suite 600 | Rockford | IL | 61101 | 300,000.00
South Suburban Housing Center | 18220 Harwood Avenue, Suite 1 | Homewood | IL | 60430 | 125,000.00
South Suburban Housing Center | 18220 Harwood Avenue, Suite 1 | Homewood | IL | 60430 | 300,000.00
Fair Housing Center of Central Indiana, Inc | 445 N Pennsylvania St., Suite 811 | Indianapolis | IN | 46204 | 125,000.00
Fair Housing Center of Central Indiana, Inc | 445 N Pennsylvania St., Suite 811 | Indianapolis | IN | 46204 | 300,000.00
Lexington Fair Housing Council, Inc | 207 E Reynolds Rd. Suite 130 | Lexington | KY | 40517 | 300,000.00
Greater New Orleans Fair Housing Action Center, Inc | 404 South Jefferson Davis Parkway | New Orleans | LA | 70119 | 125,000.00
Greater New Orleans Fair Housing Action Center, Inc | 404 South Jefferson Davis Parkway | New Orleans | LA | 70119 | 300,000.00
Community Legal Aid, Inc | 405 Main Street | Worcester | MA | 01608 | 300,000.00
Fair Housing Center of Greater Boston | 100 Terrace Street | Boston | MA | 02120 | 300,000.00
Massachusetts Fair Housing Center, Inc | 57 Suffolk Street | Holyoke | MA | 01040 | 300,000.00
Southcoast Fair Housing, Inc | 257 Union Street | New Bedford | MA | 02740 | 125,000.00
Southcoast Fair Housing, Inc | 721 County Street | New Bedford | MA | 02740 | 300,000.00
Suffolk University | 8 Ashburton Place | Boston | MA | 02108 | 299,989.00
Baltimore Neighborhoods, Inc | 2530 N Charles Street | Baltimore | MD | 21218 | 300,000.00
Pine Tree Legal Assistance, Inc | 88 Federal Street | Portland | ME | 04112 | 300,000.00
Community Action Agency | 1214 Greenwood Avenue | Jackson | MI | 49203 | 125,000.00
Fair Housing Center of Metropolitan Detroit | 220 Bagley | Detroit | MI | 48226 | 300,000.00
Fair Housing Center of Southeastern Michigan | P.O. Box 7825 | Ann Arbor | MI | 48107 | 300,000.00
Fair Housing Center of Southwest Michigan | 405 W Michigan Ave | Kalamazoo | MI | 49007 | 300,000.00
Fair Housing Center of West Michigan | 20 Hall Street SE | Grand Rapids | MI | 49507 | 125,000.00
Fair Housing Center of West Michigan | 20 Hall Street SE | Grand Rapids | MI | 49507 | 300,000.00
Legal Services of Eastern Michigan | 436 South Saginaw Street, Suite 101 | Flint | MI | 48502 | 106,682.00
Legal Services of Eastern Michigan | 436 South Saginaw Street, Suite 101 | Flint | MI | 48502 | 300,000.00
Mid-Minnesota Legal Assistance | 430 First Avenue North, Suite 300 | Minneapolis | MN | 55401 | 300,000.00
Metropolitan St. Louis Equal Housing & Opportunity Council | 1027 S Vandeventer Avenue, 6th Floor | St. Louis | MO | 63110 | 300,000.00
Metropolitan St. Louis Equal Housing and Opportunity Council | 1027 S Vandeventer Ave., 6th Floor | St. Louis | MO | 63110 | 125,000.00
Housing Education and Economic Development, Inc |  | Jackson | MS |  | 233,538.00
Mississippi Center for Justice | 5 Old River Place | Jackson | MS | 39202 | 125,000.00
Mississippi Center for Justice | 5 Old River Place | Jackson | MS | 39202 | 300,000.00
Montana Fair Housing, Inc | 501 East Front Street, Suite 504 | Butte | MT | 59701 | 300,000.00
Legal Aid of North Carolina, Inc | 224 S Dawson Street | Raleigh | NC | 27601 | 300,000.00
Legal Aid of North Carolina, Inc | 224 S Dawson Street | Raleigh | NC | 27601 | 125,000.00
Telamon Corporation | 5560 Munford Road, Suite 201 | Raleigh | NC | 27612 | 125,000.00
High Plains Fair Housing Center | 1405 1st Ave. North | Grand Forks | ND | 58203 | 112,901.00
High Plains Fair Housing Center | 1405 1st Ave. North | Grand Forks | ND | 58201 | 205,000.00
Family Housing Advisory Services, Incorporated | 2401 Lake Street | Omaha | NE | 68111 | 300,000.00
New Hampshire Legal Assistance | 117 North State Street | Concord | NH | 03301 | 300,000.00
Citizen Action of New Jersey | 744 Broad Street | Newark | NJ | 07102 | 125,000.00
Fair Housing Council of Northern New Jersey | 131 Main Street, Suite 140 | Hackensack | NJ | 07601 | 125,000.00
Fair Housing Council of Northern New Jersey | 131 Main Street, Suite 140 | Hackensack | NJ | 07601 | 300,000.00
New Jersey Citizen Action Education Fund, Inc | 744 Broad Street | Newark | NJ | 07102 | 250,000.00
Silver State Fair Housing Council | 110 W Arroyo Street, Suite A | Reno | NV | 89059 | 125,000.00
Silver State Fair Housing Council | 110 W Arroyo Street, Suite A | Reno | NV | 89509 | 300,000.00
Brooklyn Legal Services | 105 Court Street | Brooklyn | NY | 11201 | 300,000.00
Chautauqua Opportunities, Inc | 17 W Courtney Street | Dunkirk | NY | 14048 | 125,000.00
CNY Fair Housing, Inc | 731 James Street, Suite 200 | Syracuse | NY | 13203 | 300,000.00
CNY Fair Housing, Inc | 731 James Street, Suite 200 | Syracuse | NY | 13203 | 125,000.00
Fair Housing Justice Center, Inc | 30-30 Northern Boulevard, Suite 302 | Long Island City | NY | 11101 | 300,000.00
Fair Housing Justice, Inc | 30-30 Northern Boulevard, Suite 302 | Long Island City | NY | 11101 | 125,000.00
Housing Opportunities Made Equal, Inc | 1542 Main Street | Buffalo | NY | 14209 | 300,000.00
Legal Assistance of Western NY | 1 West Main Street | Rochester | NY | 14614 | 300,000.00
Long Island Housing Services, Inc | 640 Johnson Avenue, Suite 8 | Bohemia | NY | 11716 | 125,000.00
Long Island Housing Services, Inc | 640 Johnson Ave., Suite 8 | Bohemia | NY | 11716 | 300,000.00
Westchester Residential Opportunities, Inc | 470 Mamaroneck Avenue, Suite 410 | White Plains | NY | 10605 | 125,000.00
Westchester Residential Opportunities, Inc | 470 Mamaroneck Avenue, Suite 410 | White Plains | NY | 10605 | 300,000.00
Fair Housing Contact Service, Inc | 441 Wolf Ledges Parkway, Suite 200 | Akron | OH | 44311 | 125,000.00
Fair Housing Contact Service, Inc | 441 Wolf Ledges Parkway, Suite 200 | Akron | OH | 44311 | 300,000.00
Fair Housing Opportunities of NW Ohio, Inc | 432 N Superior Street | Toledo | OH | 43604 | 300,000.00
Fair Housing Opportunities, Inc. dba Fair Housing Center | 432 N Superior Street | Toledo | OH | 43604 | 125,000.00
Fair Housing Resource Center, Inc | 1100 Mentor Avenue | Painesville | OH | 44077 | 300,000.00
Housing Opportunities Made Equal of Greater Cincinnati | 2400 Reading Road, Suite 118 | Cincinnati | OH | 45202 | 300,000.00
Housing Opportunities Made Equal of Greater Cincinnati, Inc | 2400 Reading Road, Suite 118 | Cincinnati | OH | 45202 | 125,000.00
Housing Research & Advocacy Center | 2728 Euclid Avenue | Cleveland | OH | 44115 | 125,000.00
Housing Research and Advocacy Center | 2728 Euclid Avenue | Cleveland | OH | 44115 | 300,000.00
Ohio State Legal Services Association | 1108 City Park Avenue | Columbus | OH | 43206 | 125,000.00
Legal Aid Services of Oklahoma, Inc | 2915 N Classen Blvd | Oklahoma City | OK | 73106 | 300,000.00
Metropolitan Fair Housing of Oklahoma, Inc | 1500 NE 4th Street, Suite 204 | Oklahoma City | OK | 73117 | 300,000.00
Fair Housing Council of Oregon | 1221 SW Yamhill St, Suite 305 | Portland | OR | 97205 | 125,000.00
Fair Housing Council of Oregon | 1221 SW Yamhill St., Suite 305 | Portland | OR | 97204 | 300,000.00
Fair Housing Council of Suburban Philadelphia, Inc | 550 Pinetown Road, Suite 460 | Fort Washington | PA | 19034 | 300,000.00
Fair Housing Partnership of Greater Pittsburgh | 2840 Liberty Avenue | Pittsburgh | PA | 15222 | 300,000.00
Fair Housing Rights Center in Southeastern Pennsylvania | 444 N 3rd Street, Suite 110 | Philadelphia | PA | 19123 | 300,000.00
Southwestern Pennsylvania Legal Services, Inc | 10 West Cherry Avenue | Washington | PA | 15301 | 125,000.00
Southwestern Pennsylvania Legal Services, Inc | 10 West Cherry Avenue | Washington | PA | 15301 | 300,000.00
Greenville County Human Relations Commission | 301 University Ridge, Suite 1600 | Greenville | SC | 29601 | 119,562.00
Tennessee Fair Housing Council, Inc | 107 Music City Circle | Nashville | TN | 37214 | 300,000.00
West Tennessee Legal Services, Inc | 210 W Main Street | Jackson | TN | 38301 | 300,000.00
West Tennessee Legal Services, Inc | 210 W Main Street | Jackson | TN | 38301 | 125,000.00
Austin Tenants Council, Inc | 1640B E Second Street, Suite 150 | Austin | TX | 78702 | 300,000.00
Greater Houston Fair Housing Center, Inc | P.O. Box 292 | Houston | TX | 77001 | 300,000.00
Money Management International, Inc | 14141 Southwest Freeway, Suite 1000 | Sugar Land | TX | 77478 | 125,000.00
North Texas Fair Housing Center | 8625 King George Drive, Suite 130 | Dallas | TX | 75235 | 300,000.00
San Antonio Fair Housing Council, Inc | 4414 Centerview Drive, Suite 229 | San Antonio | TX | 78228 | 300,000.00
Disability Law Center | 205 N 400 W | Salt Lake City | UT | 84103 | 282,830.00
Housing Opportunities Made Equal of Virginia, Inc | 626 E Broad Street, Suite 400 | Richmond | VA | 23219 | 125,000.00
Housing Opportunities Made Equal of Virginia, Inc | 626 E Broad Street, Suite 400 | Richmond | VA | 23219 | 300,000.00
Champlain Valley Office of Economic Opportunity, Inc | 255 South Champlain Street, Suite 9 | Burlington | VT | 05401 | 125,000.00
Vermont Legal Aid, Inc | 264 North Winooski Avenue | Burlington | VT | 05401 | 300,000.00
Vermont Legal Aid, Inc | 264 North Winooski Avenue | Burlington | VT | 05401 | 68,972.00
Fair Housing Center of Washington | 1517 Fawcett Ave. Suite 250 | Tacoma | WA | 98402 | 300,000.00
Northwest Fair Housing Alliance | 35 W Main | Spokane | WA | 99201 | 125,000.00
Northwest Fair Housing Alliance | 35 W Main | Spokane | WA | 99201 | 300,000.00
Metropolitan Milwaukee Fair Housing Council | 759 North Milwaukee Street | Milwaukee | WI | 53202 | 125,000.00
Metropolitan Milwaukee Fair Housing Council | 759 North Milwaukee Street | Milwaukee | WI | 53202 | 300,000.00

Appendix C

FY2017 The Research and Evaluation, Demonstrations and Data Analysis and Utilization Program

Contact: Kinnard Wright, 202-402-7495.

Name | Address | City | State | Zip | Award amount
Child trajectories:
The University of North Carolina at Chapel Hill | 104 Airport Drive, Suite 2200, CB1350 | Chapel Hill | NC | 27999-1350 | $311,871.00
Social and economic impact of CDBG:
The Regents of the University of Idaho | 875 Perimeter Drive | Moscow | ID | 83844-3020 | 243,763.00
The Woodstock Institute | 29 E Madison Street, Suite 1710 | Chicago | IL | 60602-4466 | 335,027.00

[FR Doc. 2018-15486 Filed 7-19-18; 8:45 am]

BILLING CODE 4210-67-P